DEPARTMENT OF JUSTICE

Antitrust Division

Notice Pursuant to the National Cooperative Research and Production Act of 1993—Undersea Technology Innovation Consortium

Notice is hereby given that, on October 15, 2019, pursuant to Section 6(a) of the National Cooperative Research and Production Act of 1993, 15 U.S.C. 4301 et seq. (“the Act”), Undersea Technology Innovation Consortium (“UTIC”) has filed written notifications simultaneously with the Attorney General and the Federal Trade Commission disclosing changes in its membership. The notifications were filed for the purpose of extending the Act's provisions limiting the recovery of antitrust plaintiffs to actual damages under specified circumstances. Specifically, Aeronix Inc., Melbourne, FL; Attollo, LLC, Lincoln, RI; Cambridge International Systems, Inc., Arlington, VA; Careen Inc. dba Windings Inc., New Ulm, MN; CogniTech Corporation, Salt Lake City, UT; Commonwealth Computer Research, Inc., Charlottesville, VA; Corvid Technologies, LLC, Mooresville, NC; DLT Solutions, Herndon, VA; ECI Defense Group, Lyles, TN; Entanglement Research Institute Inc., Newport, RI; Gromelski & Associates, Inc., Virginia Beach, VA; IERUS Technologies, Inc., Huntsville, AL; Immersion Consulting LLC, Annapolis, MD; Persistent Systems, LLC, New York, NY; RCT Systems, Inc., Baltimore, MD; Texas Research Institute Austin, Inc. (TRI Austin), Austin, TX; The Ascendancy Group, Virginia Beach, VA; and Trident Research LLC, Austin, TX, have been added as parties to this venture.

Also, Oewaves, Inc., Pasadena, CA, has withdrawn as a party from this venture.

No other changes have been made in either the membership or planned activity of the group research project. Membership in this group research project remains open, and UTIC intends to file additional written notifications disclosing all changes in membership.

On October 9, 2018, UTIC filed its original notification pursuant to Section 6(a) of the Act. The Department of Justice published a notice in the Federal Register pursuant to Section 6(b) of the Act on November 2, 2018 (83 FR 55203).

The last notification was filed with the Department on July 11, 2019. A notice was published in the Federal Register pursuant to Section 6(b) of the Act on August 9, 2019 (84 FR 39372).

Suzanne Morris,
Chief, Premerger and Division Statistics Unit Antitrust Division.

[FR Doc. 2019-24481 Filed 11-8-19; 8:45 am]

BILLING CODE 4410-11-P